EXPORT-IMPORT BANK

[Public Notice: 2021-6023]

Agency Information Collection Activities: Submission to the Office of Management and Budget for Review and Approval; Comment Request; EIB 92-64, Application for Exporter Short Term Single Buyer Insurance

AGENCY: Export-Import Bank of the United States

ACTION: Notice of information collection; request for comment.

SUMMARY: The Export-Import Bank of the United States (EXIM), as a part of its continuing effort to reduce paperwork and respondent burden, invites the general public and other Federal Agencies to comment on the proposed information collection, as required by the Paperwork Reduction Act of 1995.

DATES: Comments must be received on or before January 13, 2025 to be assured of consideration.

ADDRESSES: Comments may be submitted electronically on www.regulations.gov (EIB 92-64), by email edward.coppola@exim.gov, or by mail to Edward Coppola, Export-Import Bank of the United States, 811 Vermont Ave. NW, Washington, DC.

FOR FURTHER INFORMATION CONTACT: To request additional information, please contact Edward Coppola, edward.coppola@exim.gov, 202-565-3717.

SUPPLEMENTARY INFORMATION: The Application for Exporter Short Term Single Buyer Insurance form will be used by entities involved in the export of U.S. goods and services, to provide EXIM with the information necessary to obtain legislatively required assurance of repayment and fulfills other statutory requirements. Export-Import Bank customers will be able to submit this form on paper or electronically.

The application tool can be reviewed at: https://img.exim.gov/s3fs-public/pub/pending/eib92-64_2025_508.pdf.

Title and Form Number: EIB 92-64, Application for Exporter Short Term Single Buyer Insurance.

OMB Number: 3048-0018.

Type of Review: Regular.

Need and Use: The information requested enables the applicant to provide EXIM with the information necessary to obtain legislatively required assurance of repayment and fulfills other statutory requirements.

Affected Public: This form affects entities involved in the export of U.S. goods and services.

Annual Number of Respondents: 310.

Estimated Time per Respondent: 1.51 hours.

Annual Burden Hours: 465 hours.

Frequency of Reporting of Use: As needed.

Dated: November 6, 2024.
Andrew Smith,
Records Officer.

[FR Doc. 2024-26163 Filed 11-8-24; 8:45 am]

BILLING CODE 6690-01-P